DEPARTMENT OF STATE

[Public Notice 4154]

Defense Trade Advisory Group; Notice of Open Meeting

The Defense Trade Advisory Group (DTAG) will meet in open session from 9 a.m. to 12 noon on Tuesday, November 26, 2002, in Room 1912 at the U.S. Department of State, Harry S. Truman Building, 2201 C Street NW., Washington, DC. Entry and registration will begin at 8:15. The membership of this advisory committee consists of private sector defense trade specialists, appointed by the Assistant Secretary of State for Political-Military Affairs, who advise the Department on policies, regulations, and technical issues affecting defense trade. The purpose of the meeting will be to review progress of the working groups and to discuss current defense trade issues and topics for further study.

A separate afternoon session of DTAG's Regulatory/Technical Working Group will be held in the same room from 2 p.m. to 4 p.m. The session will focus on current controls on International Traffic in Arms Regulations (ITAR) Categories XI (Military Electronics) and XII (Fire Control, Range Finder, Optical and Guidance and Control Equipment) and certain possible changes to the controls in these categories. Attendance at this session must be registered separately with the Office of Defense Trade Controls as described below.

Although public seating will be limited due to the size of the conference room, members of the public may attend these open sessions as seating capacity allows, and will be permitted to participate in the discussion in accordance with the Chairman's instructions. Members of the public may, if they wish, submit a brief statement to the committee in writing.

As access to the Department of State facilities is controlled, persons wishing to attend the meeting must notify the DTAG Executive Secretariat by COB Thursday, November 21, 2002. If notified after this date, the DTAG Secretariat cannot guarantee that State's Bureau of Diplomatic Security can complete the necessary processing required to attend the November 26 plenary.

Each non-member observer wishing to attend the morning plenary session should provide his/her name, company or organizational affiliation, date of birth, and social security number to the DTAG Secretariat by fax to (202) 647-9779 (Attention: Mike Slack). Those members of the public wishing to attend the afternoon session of the Regulatory/Technical Working Group should fax the entry information listed above to the Office of Defense Trade Controls at (202) 261-8199 (Attention: Steve Tomchik). A list will be made up for Diplomatic Security and the Reception Desk at the C Street Entrance. Attendees must present a driver's license with photo, a passport, a U.S. Government ID, or other valid photo ID for entry.

FOR FURTHER INFORMATION CONTACT: Mike Slack, DTAG Secretariat, U.S. Department of State, Office of Regional Security and Arms Transfers (PM/RSAT), Room 5827 Main State, Washington, DC 20520-2422. Phone (202) 647-2882. Fax: (202) 647-9779.

Dated: November 1, 2002.
Timothy J. Dunn,
Executive Secretary, Defense Trade Advisory Group, Department of State.

[FR Doc. 02-28676 Filed 11-8-02; 8:45 am]

BILLING CODE 4710-25-P